DEPARTMENT OF COMMERCE

National Oceanic and Atmospheric Administration

50 CFR Parts 600 and 660

[Docket No. 991223347-9347; I.D. 092800C]

Fisheries off West Coast States and in the Western Pacific; Pacific Coast Groundfish Fishery; Trip Limit Adjustments

AGENCY: National Marine Fisheries Service (NMFS), National Oceanic and Atmospheric Administration (NOAA), Commerce.

ACTION: Fishing restrictions; request for comments.

SUMMARY: NMFS announces changes to the limited entry and open access trip limits in the Pacific coast groundfish fishery. This document also announces the last cumulative trip limit period in 2000 for the “B” platoon, those limited entry trawl vessels designated to take their cumulative trip limits 2 weeks out of phase with the rest of the fleet. These actions, which are authorized by the Pacific Coast Groundfish Fishery Management Plan (FMP,) are intended to help the fisheries achieve optimum yield (OY) while still protecting overfished and depleted stocks.

DATES: Changes to management measures are effective 0001 hours (local time) October 2, 2000, unless modified, superseded, or rescinded. These changes are effective until the effective date of the 2001 annual specifications and management measures for the Pacific coast groundfish fishery, which will be published in the Federal Register. Comments on this rule will be accepted through October 23, 2000.

ADDRESSES: Submit comments to Donna Darm, Acting Administrator, Northwest Region (Regional Administrator), NMFS, 7600 Sand Point Way N.E., BIN C15700, Bldg. 1, Seattle, WA 98115-0070; or Rebecca Lent, Administrator, Southwest Region, NMFS, 501 West Ocean Blvd., Suite 4200, Long Beach, CA 90802-4213.

FOR FURTHER INFORMATION CONTACT: Yvonne deReynier or Becky Renko (Northwest Region, NMFS) 206-526-6140.

SUPPLEMENTARY INFORMATION: The following changes to current management measures were recommended by the Pacific Fishery Management Council (Council,) in consultation with the States of Washington, Oregon, and California, at its September 11-15, 2000, meeting in Sacramento, CA. Pacific coast groundfish landings will be monitored throughout the year, and further adjustments to the trip limits will be made as necessary to stay within the OYs and allocations announced in the 2000 annual specifications and management measures for the groundfish fishery (65 FR 221, January 4, 2000, as amended at 65 FR 4169, January 26, 2000; 65 FR 17805, April 5, 2000; 65 FR 25881, May 4, 2000; 65 FR 31283, May 17, 2000; 65 FR 33423, May 23, 2000; and 65 FR 45308, July 21, 2000).

Yellowtail Rockfish Taken in Limited Entry Trawl Fisheries for Flatfish; Yellowtail Rockfish, Arrowtooth Flounder, and Other Flatfish in Limited Entry Trawl Fisheries

During the winter months, yellowtail rockfish tend to move to rockier habitats and are not as closely associated with flatfish as they are during the summer months. To make yellowtail rockfish and flatfish management more consistent with natural catch association patterns, and to reduce discards of yellowtail rockfish taken with small footrope bottom trawl gear by vessels fishing for flatfish, per-trip limits for yellowtail rockfish taken with small footrope bottom trawl gear were introduced in July (65 FR 45308, July 21, 2000). At its September meeting, the Council recommended maintaining a per-trip limit for yellowtail rockfish taken with small footrope bottom trawl gear through the November to December period. The per-trip limit during the July to October period is equivalent to the sum of 33 percent (by weight) of all flatfish except arrowtooth flounder, plus 10 percent (by weight) of arrowtooth flounder, not to exceed 7,500 lb (3,402 kg). During the November to December cumulative trip limit period, the flatfish fishery is concentrated in depths that have less association with yellowtail rockfish; therefore, the Council recommended decreasing the per-trip limit to the sum of 33 percent (by weight) of all flatfish except arrowtooth flounder, plus 10 percent (by weight) of arrowtooth flounder, not to exceed 2,500 lb (1,134 kg).

Through August 31, 2000, only 21.1 percent of the OY for yellowtail rockfish set aside for the limited entry fishery north of Cape Mendocino (40° 10' N. lat.) had been landed. To allow fishers access to these stocks without exceeding 2000 OYs, the Council recommended increasing the yellowtail rockfish 2-month cumulative limit for the November to December period from the previously established 10,000 lb (4,536 kg) to 30,000 lb (13,608 kg). Yellowtail rockfish taken in the flatfish fisheries and subject to the 2,500 lb per-trip limit would also be subject to the 2-month cumulative limit.

The Council also recommended increasing the per-trip limit for arrowtooth flounder taken with large or small footrope bottom trawl from the prior recommended 10,000 lb (4,536 kg) to 20,000 lb (9,072 kg) per trip. Because arrowtooth flounder are not a high-value species, this limit is not expected to increase targeted effort on that species.

To allow fishers access to “other flatfish” without exceeding 2000 OYs, the Council recommended increasing the limit for other flatfish taken with large footrope bottom trawl from 400 lb (181 kg) per trip to 1,000 lb (454 kg) per trip for the November-December period. Other flatfish means all flatfish listed at 50 CFR 660.302 except those with species-specific trip limits and rex sole.

Limited Entry Trawl and Fixed Gear, and Open Access Minor Slope Rockfish South of 40°10' N. lat.

Throughout 2000, minor slope rockfish landings south of 40°10' N. lat. have been slow. The best available information at the September Council meeting indicated that limited entry fisheries south of 40°10' N. lat. had landed 11.6 percent of slope rockfish set aside for those fisheries in 2000, and that open access fisheries had landed only 4.4 percent of its minor slope rockfish allocation, through the end of August 2000. Given these low landings rates, the Council recommended increasing cumulative landings limits to levels that would allow higher landings without jeopardizing overfished and depleted stocks. The Council recommended increasing the limited entry minor slope rockfish 2-month cumulative landings limit for both trawl and fixed gear south of 40°10' N. lat. from 7,000 lb (3,175 kg) to 20,000 lb (9,072 kg) for the September to October trip limit period. For the November to December period the Council recommended setting the limited entry cumulative limit previously announced for minor slope rockfish south of 40°10' N. lat. from 1,500 lb per month (680 kg) to 10,000 per month (4,536 kg) for the trawl fishery and from 1,500 lb (680 kg) per month to 20,000 lb (9,072 kg) 2-month period for the fixed gear fleet. The open access, minor slope rockfish 2-month cumulative limit south of 40°10' N. lat. are increased from 1,000 lb (454 kg) (454 kg) to 3,000 lb (1,361 kg) for the September to October period and from 500 lb (227 kg) to 3,000 lb (1,361 kg) for the November to December period.

Limited Entry Trawl Fishery for Sablefish; Limited Entry, Fixed Gear and Open Access Daily Trip Limit Fisheries for Sablefish North of 36° N. lat.

The best available information through August 31, 2000, indicates that the landings of sablefish in the limited entry trawl fishery were at 42.0 percent of the 2000 allocation for that fishery. To allow limited entry trawl fishers access to sablefish without exceeding 2000 OYs, the Council recommended increasing the 2-month cumulative limit from 10,000 lb (4,536 kg) (4,536 kg) to 12,000 lb (5,443 kg) for the September to October period and increasing the previously announced 1-month limit of 3,500 lb (1,588 kg) to 6,000 lb (2,722 kg) for the November to December period.

Sablefish in the southern areas tend to be smaller than those in the northern areas. To reduce the discard of small fish that are otherwise marketable, fishers requested that the Council remove the per-trip limit of 500 lb (227 kg) for sablefish smaller that 22 inches (56 cm). In response to this request, the council recommended removing the length requirement for the remainder of 2000.

Similarly, daily trip limit sablefish landings in both the 2000 limited entry fixed gear and open access fisheries have been relatively low through the spring and summer months. The best available information at the September Council meeting indicated that limited entry fixed gear fisheries through July, had landed 21.1 percent of the sablefish set aside for daily landings, and that the open access fisheries through August, had landed 14.5 percent of their sablefish allocation. The limited entry and open access daily trip limit fisheries for sablefish north of 36° N. lat. are restricted by a 300-lb (136-kg) per day limit in combination with a 2-month cumulative limit. For the limited entry fixed gear fishery, the Council recommended increasing the daily limit from 300 lb (136 kg) per day to 400 lb (181 kg) per day and adding an option which allows fishers instead to opt to make one landing per week above 400 lb (181 kg) and not to exceed 1,000 lb (454 kg). Under either option the fishery is not to exceed the 2-month cumulative limit. The 2-month cumulative limit was increased from 3,330 lb (1,497 kg) to 8,000 lb (3,629 kg) for the September to October period and increased from the prior recommended 2,400 lb 2-month limit to 8,000 lb (3,629 kg) for the November to December period. As announced in the annual specifications and management measures (65 FR 221, January 4, 2000), 1 week means 7 consecutive days, Sunday through Saturday.

For the open access fixed gear fishery, the Council recommended keeping the daily limit at 300 lb (136 kg) per day, but also included an option which allows fishers to make one weekly landing above 300 lb (136 kg), but not to exceed 1,200 lb (544 kg). To allow the open access fishery a chance to harvest their sablefish allocation without exceeding 2000 OYs, the Council recommended removing the cumulative limits for the remainder of 2000.

Limited Entry Fixed Gear and Open Access Fisheries for Minor Nearshore Rockfish North and South

Minor nearshore rockfish landings in the limited entry and open access fisheries have been low throughout 2000. The best available information at the September Council meeting indicated that limited entry fisheries had landed 10.3 percent of the allocation for that fishery north of 40°10' N. lat., and 8.8 percent of the allocation for that fishery south of 40°10' N. lat., through August 31, 2000. Similarly, the best available information at that meeting indicated that open access fisheries had landed 36.9 percent of the allocation for that fishery north of 40°10' N. lat., and 16.3 percent of the allocation for that fishery south of 40°10' N. lat. To allow fishers access to these stocks without exceeding 2000 OYs, the Council recommended significant increases to the minor nearshore rockfish landings limits for both the limited entry fixed gear and open access fisheries.

North of 40°10' N. lat. and starting October 2, 2000, the Council recommended increasing the limited entry minor nearshore rockfish fixed gear limit for the September to October period from 5,000 lb (2,268 kg) to 10,000 lb (4,536 kg) per 2-month period, with the sublimit for minor nearshore rockfish other than blue or black rockfish increasing from 1,800 lb(816 kg) to 4,000 lb (1,814 kg) per 2-month period. The previously recommended 3,000 lb (1,361 kg) per 2-month period for the November to December period will also be increased to 10,000 lb (4,536 kg) with the sublimit for minor nearshore rockfish other than blue or black rockfish increasing from the previously recommended 1,400 lb(635 kg) to 4,000 lb (1,814 kg) per 2-month period.

The 2-month cumulative limit for the open access fishery of minor nearshore rockfish north of 40°10' N. lat. starting October 2, 2000, increases from 3,000 lb (1,361 kg) to 6,000 lb (2,722 kg)), with the sublimit for minor nearshore rockfish other than blue or black rockfish increasing from 900 lb (408 kg) to 2,000 lb (907 kg). For the November to December period the 2-month cumulative limit increases from the previously recommended 1,000 lb (454 kg) to 6,000 lb (2,722 kg), with the sublimit for minor nearshore rockfish other than blue or black rockfish increasing from the previously recommended 500 lb (227 kg) to 2,000 lb (907 kg).

Lingcod and rockfish are taken in the recreational fishery in waters (0-3 nm) managed by the State of California. To ensure the pre-season estimates for overfished species off California (bocaccio, lingcod, canary rockfish, cowcod) are not exceeded, the State may take actions to prohibit recreational landings in State waters. Recreational fishery closures south of Point Conception (34°27' N. lat.) are likely to occur in late 2000. The State of California Fish and Game Commission is scheduled to meet in October, during which time they will review the best available landings data and make recommendations on recreational fishery management in California waters. The Council asked NMFS to coordinate with the State of California to implement consistent changes in Federal waters (3-200 nm offshore) to prevent OYs of rockfish and lingcod from being exceeded.

Actions that may be taken by the State of California, and recommended by NMFS, to prevent excess harvest may include prohibiting further taking, retaining, possessing or landing of minor nearshore rockfish in the limited entry and open access fixed gear fisheries south of 34°27' N. lat. during the November to December period. Any such actions will be published in the Federal Register. To allow commercial harvest in the nearshore rockfish fisheries, with the least impact on overfished species, the Council recommended establishing separate cumulative trip limits for the area between 40°10' N. lat. and 34°27' N. lat., and the area south of 34°27' N. lat. Beginning, October 2, 2000, in the limited entry fixed gear fishery for minor nearshore rockfish between 40°10' N. lat. and 34°7' N. lat., the 2-month cumulative trip limit for increases from 2,000 lb (907 kg)) to 6,000 lb (2,722 kg), continuing through December replacing the previously recommend 2-month limit of 1,300 (590 kg) for the November to December period. The open access minor nearshore rockfish 2-month cumulative limit for the fishery between of 40°10' N. lat. and 34° 27' N. lat. increases from 1,600 lb (726 kg) to 4,000 lb (1,814 kg) per 2-month period beginning October 1, and continues through December. This replaces the previously recommend 2-month limit of 800 lb (363 kg) for the November to December period.

The limited entry fixed gear minor nearshore rockfish 2-month cumulative limit for the fishery south of 34°27' N. lat. will be increased from 2,000 lb (907 kg) to 9,000 lb (4,082 kg) for the September to October period, and from 1,300 lb (590 kg) to 3,000 lb (1,361 kg) for the November to December period. The open access (fixed gear) minor nearshore rockfish 2-month cumulative limit for the area south of 34°27' N. lat. will be increased from 1,600 lb (726 kg) to 6,000 lb (2,722 kg) for the September to October period, and from 800 lb (363 kg) to 2,000 lb (907 kg) for the November to December period.

Final Period for the “B” Platoon

NMFS also announces the last cumulative trip limit period in 2000 for the “B” platoon i.e., those limited entry trawl vessels designated (on their limited entry permit) to take their cumulative trip limits 2 weeks out of phase with the rest of the fleet. For vessels in the “B” platoon, the final cumulative trip limit period will be from November 16, 2000, through December 31, 2000. At any time during this period, each vessel in the “B” platoon is allowed to take and retain, possess, or land the equivalent of two 1-month cumulative limits (the November and December cumulative trip limits). For species for which there are 2-month cumulative limits, the vessels in the “B” platoon must take the final 2-month cumulative limit during the final period from November 16, 2000, through December 31, 2000.

NMFS Actions

For the reasons stated here, NMFS concurs with the Council’s recommendations and announces the following changes to the 2000 annual management measures (65 FR 221, January 4, 2000, as amended at 65 FR 4169, January 26, 2000; 65 FR 17805, April 5, 2000; 65 FR 25881, May 4, 2000; 65 FR 31283, May 17, 2000; 65 FR 33423, May 23, 2000; and at 65 FR 45308, July 21, 2000) as follows:

In Section IV, under B. Limited Entry Fishery, Tables 3 and 4 are revised, and under C. Trip Limits in the Open Access Fishery, Table 5 is revised to read as follows:

IV. NMFS Actions

B. Limited Entry Fishery

BILLING CODE 3510-22-S

C. Trip Limits in the Open Access Fishery

BILLING CODE 3510-22-C

Classification

These actions are authorized by the regulations implementing the FMP and the annual specifications and management measures and emergency rule published at 65 FR 221 (January 4, 2000) and are based on the most recent data available. The aggregate data upon which these actions are based are available for public inspection at the office of the Administrator, Northwest Region, NMFS (see ADDRESSES) during business hours.

The Assistant Administrator for Fisheries NOAA (AA) finds good cause to waive the requirement to provide prior notice and comment on this action pursuant to 5 U.S.C. 553(b)(B) because providing prior notice and opportunity for comment would be impracticable. It would be impracticable because the current 2-month cumulative limit period began on September 1, 2000, and affording additional advance notice and opportunity for public comment would drastically reduce the amount of time the fishers have to take the increased September to October limit. The increases to trip limits relieve burdens on the public as the trip limits provide for an increase in fishing opportunities. In addition, the affected public had the opportunity to comment on these actions at the September 11-15, 2000, Council meeting. This action should be implemented as soon as possible to provide fishers the opportunity to achieve the increased trip limits.

Since this action increases trip limits, it relieves a restriction and therefore, the AA find, under 5 U.S.C. 553(d)(1), it is unnecessary to delay for 30 days the effective date of this action.

These actions are taken under the authority of 50 CFR 660.323(b)(1), and are exempt from review under Executive Order 12866.

Authority: 16 U.S.C. 1801 et seq.

Dated: October 2, 2000.
Clarence Pautzke,
Director, Office of Sustainable Fisheries, National Marine Fisheries Service.

[FR Doc. 00-25631 Filed 10-2-00; 4:30 pm]

BILLING CODE 3510-22-S